DEPARTMENT OF COMMERCE

National Oceanic and Atmospheric Administration

Availability of Grant Funds and Proposed Implementation Guidelines; Withdrawal of Solicitation for the Marine Aquaculture Initiative

AGENCY: National Oceanic and Atmospheric Administration, Commerce.

ACTION: Notice of withdrawal.

SUMMARY: The National Oceanic and Atmospheric Administration publishes this notice to announce the withdrawal of the solicitation of applications for the NOAA Marine Aquaculture Initiative 2010, which was published in the NOAA “Availability of Grant Funds for Fiscal Year 2010” on January 19, 2010. A new funding opportunity with revised requirements and goals is under development and will be published in the Federal Register.

FOR FURTHER INFORMATION CONTACT: Dr. Gene Kim, National Sea Grant College Program, National Oceanic and Atmospheric Administration, 1315 East-West Highway, SSMC3, R/SG, Silver Spring, Maryland 20910, (301) 734-1281.

SUPPLEMENTARY INFORMATION: On January 19, 2010, the National Oceanic and Atmospheric Administration published its annual notice entitled “Availability of Grant Funds for Fiscal Year 2010” (75 FR 3092). Included in that notice, beginning on page 3110, was a solicitation of applications for the NOAA Marine Aquaculture Initiative 2010 (Catalog of Federal Domestic Assistance Number: 11.417, Sea Grant Support).

NOAA publishes this notice to announce that it is withdrawing the solicitation of applications for the program, due to incorrect guidance being published. A new funding opportunity with revised requirements and goals is under development and will be published in the Federal Register. Any applications received by the program will be returned to the applicant.

Classification Executive Order 12866: It has been determined that this notice is not significant for purposes of Executive Order 12866.

Administrative Procedure Act/Regulatory Flexibility Act: Prior notice and an opportunity for public comment are not required by the Administrative Procedure Act or any other law for rules concerning public property, grants, benefits, and contracts (5 U.S.C. 553(a)(2)). Because notice and opportunity for comments are not required pursuant to U.S.C. 553 or any other law, the analytical requirements of the Regulatory Flexibility Act (5 U.S.C. 601 et seq.) are inapplicable. Therefore, a regulatory flexibility analysis is not required and none has been prepared.

Dated: January 25, 2010.
Mark E. Brown,
Chief Financial Officer/Chief Administrative Officer, Office of Oceanic and Atmospheric Research, National Oceanic and Atmospheric Administration.

[FR Doc. 2010-1954 Filed 1-28-10; 8:45 am]

BILLING CODE 3510-KA-P